DEPARTMENT OF TRANSPORTATION

Federal Aviation Administration

14 CFR Part 39

[Docket No. FAA-2019-0260; Product Identifier 2017-NE-13-AD; Amendment 39-19772; AD 2019-21-06]

RIN 2120-AA64

Airworthiness Directives; Ipeco Pilot and Co-Pilot Seats

AGENCY: Federal Aviation Administration (FAA), DOT.

ACTION: Final rule.

SUMMARY: The FAA is superseding Airworthiness Directive (AD) 2017-22-02 for certain Ipeco Holdings Limited (Ipeco) pilot and co-pilot seats. AD 2017-22-02 required modification and re-identification of the affected seats. This AD continues to require modification and re-identification of the affected seats. This AD also requires initial and repetitive inspections of the affected tracklock springs and, depending on the findings, replacement of the tracklock springs with a part eligible for installation. This AD was prompted by reports that the tracklock spring modification required by AD 2017-22-02 does not adequately address the issue of unexpected seat movement during takeoff and landing and the need to add additional seat part numbers (P/Ns) to the applicability. The FAA is issuing this AD to address the unsafe condition on these products.

DATES: This AD is effective December 13, 2019.

The Director of the Federal Register approved the incorporation by reference of a certain publication listed in this AD as of December 13, 2019.

The Director of the Federal Register approved the incorporation by reference of certain other publications listed in this AD as of December 12, 2017 (82 FR 51552, November 7, 2017).

ADDRESSES: For service information identified in this final rule, contact Ipeco Holdings Limited, Aviation Way, Southend-on-Sea, SS2 6UN, United Kingdom; phone: 44 1702 549371; fax: 44 1702 540782; email: sales@Ipeco.com. You may view this service information at the FAA, Engine and Propeller Standards Branch, 1200 District Avenue, Burlington, MA 01803. For information on the availability of this material at the FAA, call 781-238-7759. It is also available on the internet at https://www.regulations.gov by searching for and locating Docket No. FAA-2019-0260.

Examining the AD Docket

You may examine the AD docket on the internet at https://www.regulations.gov by searching for and locating Docket No. FAA-2019-0260; or in person at Docket Operations between 9 a.m. and 5 p.m., Monday through Friday, except Federal holidays. The AD docket contains this AD, the mandatory continuing airworthiness information (MCAI), regulatory evaluation, any comments received, and other information. The address for Docket Operations is Document Operations, U.S. Department of Transportation, Docket Operations, M-30, West Building Ground Floor, Room W12-140, 1200 New Jersey Avenue SE, Washington, DC 20590.

FOR FURTHER INFORMATION CONTACT: Neil Doh, Aerospace Engineer, Boston ACO Branch, FAA, 1200 District Avenue, Burlington, MA 01803; phone: 781-238-7757; fax: 781-238-7199; email: neil.doh@faa.gov.

SUPPLEMENTARY INFORMATION:

Discussion

The FAA issued a notice of proposed rulemaking (NPRM) to amend 14 CFR part 39 to supersede AD 2017-22-02, Amendment 39-19082 (82 FR 51552, November 7, 2017), (“AD 2017-22-02”). AD 2017-22-02 applied to certain Ipeco pilot and co-pilot seats. The NPRM published in the Federal Register on July 19, 2019 (84 FR 34816). The NPRM was prompted by reports of tracklock spring failures occurring on affected seats, including those seats already modified by AD 2017-22-02. The NPRM proposed to retain all the requirements of AD 2017-22-02 and add additional seat P/Ns to the applicability. The NPRM also proposed to require initial and repetitive inspections of the affected tracklock springs and, depending on the findings, replacement of the tracklock springs with a part eligible for installation. The FAA is issuing this AD to address the unsafe condition on these products.

The European Union Aviation Safety Agency (EASA), which is the Technical Agent for the Member States of the European Community, has issued EASA AD 2018-0262, dated December 6, 2018, (referred to after this as “the MCAI”), to address the unsafe condition on these products. The MCAI states:

Occurrences have been reported of pilot/co-pilot unexpected rearward movement during take-off and landing. Investigations determined that horizontal guide block wear, presence of burrs on horizontal centre track and horizontal track lock system weakness (spring tension too low) were causes which contributed to the seat not being correctly locked.

This condition, if not corrected, could lead to further cases of unwanted flight crew seat movement, possibly resulting in reduced control of the aeroplane.

To address this potential unsafe condition, IPECO improved the quality control on the final assembly line and issued the applicable modification SB, providing modification instructions, and EASA issued AD 2016-0256, requiring modification of pre-mod seats and subsequent re-identification with a new P/N.

Since that AD was issued, occurrences of track lock spring failures have been reported on affected seats (including seats already modified as required by EASA AD 2016-0256). Consequently, IPECO published the inspection SB, providing applicable instructions to inspect and replace, if necessary, any affected spring of each affected seat.

For the reasons described above, this [EASA] AD retains the requirements of EASA AD 2016-0256, which is superseded, and requires repetitive inspection of seats and, depending on findings, replacement of affected springs and reporting to IPECO.

You may obtain further information by examining the MCAI in the AD docket on the internet at https://www.regulations.gov by searching for and locating Docket No. FAA-2019-0260.

Comments

The FAA gave the public the opportunity to participate in developing this AD. The FAA received no comments on the NPRM or on the determination of the cost to the public.

Conclusion

The FAA reviewed the relevant data and determined that air safety and the public interest require adopting this AD as proposed except for minor editorial changes. The FAA has determined that these minor changes:

• Are consistent with the intent that was proposed in the NPRM for addressing the unsafe condition; and

• Do not add any additional burden upon the public than was already proposed in the NPRM.

Related Service Information Under 1 CFR Part 51

The FAA reviewed Ipeco Service Bulletin (SB) Number 063-25-08, Revision 00; SB Number 063-25-09, Revision 00; and SB Number 063-25-10, Revision 00; all dated May 31, 2016. The SBs provide instructions, differentiated by the part numbers of the affected pilot and co-pilot seats, for the modification and re-identification of these seats. The FAA also reviewed Ipeco SB Number 063-25-14, Revision 00, dated August 14, 2018. This SB provides instructions for inspection and replacement, if necessary, of affected tracklock springs. This service information is reasonably available because the interested parties have access to it through their normal course of business or by the means identified in the ADDRESSES section.

Costs of Compliance

The FAA estimates that this AD affects 110 pilot and co-pilot seats installed on, but not limited to, ATR-GIE Avions de Transport Regional (ATR) 42 and ATR 72 airplanes of U.S. registry. The FAA estimates that seats installed on 34 ATR 42 airplanes and seats installed on 21 ATR 72 airplanes will require modification and inspection. The FAA revised the estimated number of affected seats in this cost estimate to include two affected seats per airplane.

The FAA estimates the following costs to comply with this AD:

Estimated Costs
Action | Labor cost | Parts cost | Cost per product | Cost on U.S. operators
Inspect ATR 42 flight crew seats | 0.1 work-hours × $85 per hour = $8.50 | $0 | $8.50 | $289
Modify ATR 42 flight crew seats | 2 work-hours × $85 per hour = $170 | 56 | 226 | 7,684
Report results of ATR 42 inspection | 1.0 work-hours × $85 per hour = $85 | 1 | 86 | 2,924
Inspect ATR 72 flight crew seats | 0.1 work-hours × $85 per hour = $8.50 | 0 | 8.50 | 179
Modify ATR 72 flight crew seats | 2 work-hours × $85 per hour = $170 | 56 | 226 | 4,746
Report results of ATR 72 inspection | 1.0 work-hours × $85 per hour = $85 | 1 | 86 | 1,806

The FAA estimates the following costs to do any necessary replacements that would be required based on the results of the inspection. The FAA has no way of determining the number of aircraft that might need these replacements:

On-Condition Costs
Action | Labor cost | Parts cost | Cost per product
Remove seat and replace ATR 42 tracklock spring | 1.4 work-hours × $85 per hour = $119 | $28 | $147
Remove seat and replace ATR 72 tracklock spring | 1.4 work-hours × $85 per hour = $119 | 28 | 147

According to the manufacturer, some of the costs of this AD may be covered under warranty, thereby reducing the cost impact on affected individuals. The FAA does not control warranty coverage for affected individuals. As a result, the FAA has included all costs in our cost estimate.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-22-02, Amendment 39-19082 (82 FR 51552, November 7, 2017), and adding the following new AD:

2019-21-06 Ipeco Holdings Limited: Amendment 39-19772; Docket No. FAA-2019-0260; Product Identifier 2017-NE-13-AD.

(a) Effective Date

This AD is effective December 13, 2019.

(b) Affected ADs

This AD replaces AD 2017-22-02, Amendment 39-19082 (82 FR 51552, November 7, 2017).

(c) Applicability

(1) This AD applies to:

(i) Ipeco Holdings Limited (Ipeco) pilot and co-pilot seats with a part number (P/N) listed in Paragraph 1.A., Planning Information, Tables 1 and 2, of Ipeco Service Bulletin (SB) Number 063-25-14, Revision 00, dated August 14, 2018, and

(ii) Ipeco pilot seat P/N 3A063-0099-01-1 and Ipeco co-pilot seat P/N 3A063-0100-01-1.

(2) These seats are installed on, but not limited to, ATR-GIE Avions de Transport Regional ATR 42 and ATR 72 airplanes.

(d) Subject

Joint Aircraft System Component (JASC) Code 2510, Flight Compartment Equipment.

(e) Unsafe Condition

This AD was prompted by reports of tracklock spring failures occurring on affected seats, including those seats already modified by AD 2017-22-02. The FAA is issuing this AD to prevent unexpected movement of pilot and co-pilot seats on takeoff and landing. The unsafe condition, if not addressed, could result in reduced control of the airplane.

(f) Compliance

Comply with this AD within the compliance times specified, unless already done.

(g) Required Action

(1) For seats that have not installed the tracklock spring modification kit, within two years after December 12, 2017 (the effective date of AD 2017-22-02), modify and re-identify each affected pilot and co-pilot seat. Use the Accomplishment Instructions of Ipeco SB Number 063-25-08, Revision 00; Ipeco SB Number 063-25-09, Revision 00; or Ipeco SB Number 063-25-10, Revision 00; all dated May 31, 2016, as appropriate, to do the modification and re-identification.

(2) For all affected seats:

(i) Within 750 flight hours (FHs) after the effective date of this AD, and, thereafter at intervals not to exceed 750 FHs, inspect the tracklock spring of each seat in accordance with the Accomplishment Instructions, paragraph 3.2, of the Ipeco SB Number 063-25-14, Revision 00, dated August 14, 2018.

(ii) If, during any inspection as required by paragraph (g)(2)(i) of this AD, any damage on, or incorrect installation of, any tracklock spring is found on the pilot or co-pilot seat, before further flight, replace both tracklock springs of the affected seat with a part eligible for installation using the Accomplishment Instructions, paragraphs 3.3.3.1 or 3.3.3.2, as applicable, of the Ipeco SB Number 063-25-14, Revision 00, dated August 14, 2018.

(3) Within 30 days after the initial and repetitive inspections, and thereafter for two years after the effective date of this AD, send the inspection results, including no findings, to Ipeco at technicalsupport@ipeco.com.

(h) Installation Prohibition

After the effective date of this AD, do not install any pilot or co-pilot seat identified in paragraph (c)(1)(i) of this AD unless the seat is modified and re-identified as specified in paragraph (g)(1) of this AD.

(i) Definitions

(1) For the purpose of this AD, “damage” includes cracks, breaks, corrosion, or deformation of the tracklock spring.

(2) For the purpose of this AD, “incorrect installation” is installing the tracklock spring at an angle or position different from the angle or postion shown in Figures 6 and 7 of Ipeco SB Number 063-25-14, Revision 00, dated August 14, 2018.

(3) For the purpose of this AD, a “part eligible for installation” is:

(i) A modified seat provided, before installation, it has passed an inspection (no damage or defect found); and

(ii) a tracklock spring provided that it passed an inspection (no damage or defect found).

(j) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

(k) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD.

(2) Before using any approved AMOC, notify your appropriate principal inspector, or lacking a principal inspector, the manager of the local flight standards district office/certificate holding district office.

(l) Related Information

(1) For more information about this AD, contact Neil Doh, Aerospace Engineer, Boston ACO Branch, FAA, 1200 District Avenue, Burlington, MA 01803; phone: 781-238-7757; fax: 781-238-7199; email: neil.doh@faa.gov.

(2) Refer to European Union Aviation Safety Agency (EASA) AD 2018-0262, dated December 6, 2018, for more information. You may examine the EASA AD in the AD docket on the internet at https://www.regulations.gov by searching for and locating it in Docket No. FAA-2019-0260.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on December 13, 2019.

(i) Ipeco Service Bulletin (SB) Number 063-25-14, Revision 00, dated August 14, 2018.

(ii) Reserved.

(4) The following service information was approved for IBR on December 12, 2017 (82 FR 51552, November 7, 2017).

(i) Ipeco SB Number 063-25-08, Revision 00, dated May 31, 2016.

(ii) Ipeco SB Number 063-25-09, Revision 00, dated May 31, 2016.

(iii) Ipeco SB Number 063-25-10, Revision 00, dated May 31, 2016.

(5) For Ipeco service information identified in this AD, contact Ipeco Holdings Limited, Aviation Way, Southend-on-Sea, SS2 6UN, United Kingdom; phone: 44 1702 549371; fax: 44 1702 540782; email: sales@Ipeco.com.

(6) You may view this service information at FAA, Engine and Propeller Standards Branch, 1200 District Avenue, Burlington, MA 01803. For information on the availability of this material at the FAA, call 781-238-7759.

(7) You may view this service information at the National Archives and Records Administration (NARA). For information on the availability of this material at NARA, email: fedreg.legal@nara.gov, or go to: https://www.archives.gov/federal-register/cfr/ibr-locations.html.

Issued in Burlington, Massachusetts, on October 25, 2019.
Karen M. Grant,
Acting Manager, Engine and Propeller Standards Branch, Aircraft Certification Service.

[FR Doc. 2019-24378 Filed 11-7-19; 8:45 am]

BILLING CODE 4910-13-P